FEDERAL COMMUNICATIONS COMMISSION

[DA 04-1563]

Wireless Telecommunications Bureau Lists Private Land Mobile Licenses Cancelled as a Result of the Spectrum Audit

AGENCY: Federal Communications Commission.

ACTION: Notice.

SUMMARY: This document informs of the call signs of licenses that have cancelled automatically as a result of their construction and operational status. Such cancellation was discovered as a result of the Private Land Mobile Radio (PLMR) Spectrum Audit conducted by the Bureau.

DATES: Effective June 8, 2004.

ADDRESSES: FCC, PLMR Spectrum Audit, 1270 Fairfield Road, Gettysburg, PA 17325, or fax (717) 338-2696.

FOR FURTHER INFORMATION CONTACT: Kelly Lawver, Public Safety & Critical Infrastructure Division, Wireless Telecommunications Bureau, (717) 338-2605.

SUPPLEMENTARY INFORMATION: This is a summary of a Public Notice released on June 8, 2004. For additional information on the PLMR spectrum Audit, please visit the PLMR audit Web site at http://wireless.fcc.gov/licensing/audits/plmrs or call 1-888-225-5322 and select option 2. Federal Communications Commission.

1. The Bureau has been conducting an audit of the construction and operational status of certain PLMR stations, involving approximately 420,000 call signs. As part of the audit, the Bureau sent letters to licensees inquiring about the construction and operational status of the subject call signs. The audit includes most PLMR Stations (radio services IG, YG, PW, YW) licensed on frequencies below 512 MHz that are subject to frequency coordination and rule-based construction and operational requirements. Part 90 of the Commission's rules governing PLMR facilities requires construction within a specified time and requires that stations remain operational in order for the FCC license to remain valid. Specifically, when a licensee fails to construct its authorized PLMR facilities within the requisite construction period or discontinues operation for a consecutive period of one year, the license cancels automatically and the licensee is required to notify the FCC.

2. The Bureau announced in two Public Notices earlier this year how it intended to handle both audit letters that were returned to the Commission as undeliverable and audit letters that were delivered but for which no response has been received by the Commission. Specifically, the FCC stated in these Public Notices that a failure to respond within the specified time frame would result in the licenses in question being deemed to have cancelled automatically. In regard to those licensees who have not responded to the audit, the Bureau stated that on February 27, 2004, it would send out a third and final letter. Licensees were given until March 31, 2004, to provide a response. In the case of undeliverable letters, the Bureau stated licensees had 30 days from publication of the Public Notice in the Federal Register to respond to avoid a presumption that the licenses have cancelled automatically.

3. The Bureau has not received a valid response within the specified time frame to any of the audit letters for the station licenses (call signs) that are set forth in Attachment A. Consequently, these station licenses have been deemed to have cancelled automatically pursuant to 47 CFR 90.155(a) or 90.157 of the Commission's rules as of the deadlines established in the February 9, 2004, Public Notices. Action will be taken in the Universal Licensing System (ULS) to reflect the termination of these licenses.

Once a license has been placed in terminated status in ULS, applicants may apply for frequency coordination and file an application with the Commission.

Federal Communications Commission.
D'wana R. Terry,
Chief, Public Safety and Critical Infrastructure Division, WTB.

BILLING CODE 6712-01-M

[FR Doc. 04-16086 Filed 7-16-04; 8:45 am]

BILLING CODE 6712-01-C